DEPARTMENT OF THE INTERIOR

Fish and Wildlife Service

[FWS-R8-ES-2018-N009; FXES11130800000-189-FF08E00000]

Endangered and Threatened Wildlife and Plants; Initiation of 5-Year Status Reviews of 50 Species in California, Nevada, and the Klamath Basin of Oregon

AGENCY: Fish and Wildlife Service, Interior.

ACTION: Notice of initiation of reviews; request for information.

SUMMARY: We, the U.S. Fish and Wildlife Service (Service), are initiating 5-year status reviews of 50 species in California, Nevada, and the Klamath Basin of Oregon under the Endangered Species Act of 1973, as amended (Act). A 5-year review is based on the best scientific and commercial data available at the time of the review; therefore, we are requesting submission of any new information on these species that has become available since the last review.

DATES: To ensure consideration in our reviews, we are requesting submission of new information no later than August 17, 2018. However, we will continue to accept new information about any species at any time.

ADDRESSES: For how and where to send information, see Request for New Information.

FOR FURTHER INFORMATION CONTACT: For whom to contact for species-specific information, see Request for New Information. Individuals who are hearing impaired or speech impaired may call the Federal Relay Service at 800-877-8337 for TTY assistance.

SUPPLEMENTARY INFORMATION:

Why do we conduct 5-year reviews?

Under the Endangered Species Act of 1973, as amended (Act; 16 U.S.C. 1531 et seq.), we maintain lists of endangered and threatened wildlife and plant species (referred to as the List) in the Code of Federal Regulations (CFR) at 50 CFR 17.11 (for wildlife) and 17.12 (for plants). Section 4(c)(2)(A) of the Act requires us to review each listed species' status at least once every 5 years. For additional information about 5-year reviews, refer to our factsheet at http://www.fws.gov/endangered/what-we-do/recovery-overview.html.

What information do we consider in our review?

A 5-year review considers all new information available at the time of the review. In conducting these reviews, we consider the best scientific and commercial data that have become available since the listing determination or most recent status review, such as:

(A) Species biology, including but not limited to population trends, distribution, abundance, demographics, and genetics;

(B) Habitat conditions, including but not limited to amount, distribution, and suitability;

(C) Conservation measures that have been implemented to benefit the species;

(D) Threat status and trends in relation to the five listing factors (as defined in section 4(a)(1) of the Act); and

(E) Other new information, data, or corrections, including but not limited to taxonomic or nomenclatural changes, identification of erroneous information contained in the List, and improved analytical methods.

Any new information will be considered during the 5-year review and will also be useful in evaluating the ongoing recovery programs for the species.

Which species are under review?

This notice announces our active review of the species listed in the table below.

Common name | Scientific name | Status | States where the species is known to occur | Final Listing rule (Federal Register citation and publication date) | Lead Fish and Wildlife Office
Animals
Butterfly, Lange's metalmark | Apodemia mormo langei | Endangered | California | 41 FR 22041 22044; 6/1/1976 | San Francisco Bay-Delta Fish and Wildlife Office.
Butterfly, Smith's blue | Euphilotes enoptes smithi | Endangered | California | 41 FR 22041 22044; 6/1/1976 | Ventura Fish and Wildlife Office.
Cuckoo, yellow-billed | Coccyzus americanus | Threatened | Western U.S. distinct population segment (DPS): Arizona, California, Colorado, Idaho, Montana, Nevada, New Mexico, Oregon, Texas, Utah, Washington, Wyoming, as well as Canada and Mexico | 79 FR 59991 60038; 10/03/2014 | Sacramento Fish and Wildlife Office.
Frog, California red-legged | Rana draytonii | Threatened | California | 61 FR 25813 25833; 5/23/1996 | Sacramento Fish and Wildlife Office.
Frog, mountain yellow-legged | Rana muscosa | Endangered | Southern California DPS: California | 67 FR 44382 44392; 7/2/2002 | Carlsbad Fish and Wildlife Office.
Goby, tidewater | Eucyclogobius newberryi | Endangered | California | 59 FR 5494 5499; 2/4/1994 | Ventura Fish and Wildlife Office.
Kangaroo rat, Stephens' | Dipodomys stephensi (incl. D. cascus) | Endangered | California | 53 FR 38465 38469; 9/30/1988 | Carlsbad Fish and Wildlife Office.
Mountain beaver, Point Arena | Aplodontia rufa nigra | Endangered | California | 56 FR 64716 64723; 12/12/1991 | Arcata Fish and Wildlife Office.
Mouse, Pacific pocket | Perognathus longimembris pacificus | Endangered | California | 59 FR 49752 49764; 9/29/1994 | Carlsbad Fish and Wildlife Office.
Plover, western snowy | Charadrius alexandrinus nivosus | Threatened | Pacific Coast population DPS: California, Oregon, Washington, Mexico (within 50 miles of Pacific coast) | 58 FR 12864 12874; 3/5/1993 | Arcata Fish and Wildlife Office.
Poolfish, Pahrump | Empetrichthys latos | Endangered | Nevada | 32 FR 4001; 3/11/1967 | Southern Nevada Fish and Wildlife Office.
Rail, California clapper | Rallus longirostris obsoletus | Endangered | California | 35 FR 16047 16048; 10/13/1970 | San Francisco Bay-Delta Fish and Wildlife Office.
Sheep, Sierra Nevada bighorn | Ovis canadensis sierrae | Endangered | California | 64 FR 19300 19309; 4/20/1999 | Reno Fish and Wildlife Office.
Skipper, Laguna Mountains | Pyrgus ruralis lagunae | Endangered | California | 62 FR 2313 2322; 1/16/1997 | Carlsbad Fish and Wildlife Office.
Snail, Morro shoulderband (=Banded dune) | Helminthoglypta walkeriana | Endangered | California | 59 FR 64613 64623; 12/15/1994 | Ventura Fish and Wildlife Office.
Sucker, Lost River | Deltistes luxatus | Endangered | California, Oregon | 53 FR 27130 27134; 7/18/1988 | Klamath Falls Fish and Wildlife Office.
Sucker, shortnose | Chasmistes brevirostris | Endangered | California, Oregon | 53 FR 27130 27134; 7/18/1988 | Klamath Falls Fish and Wildlife Office.
Tern, California least | Sterna antillarum browni | Endangered | Arizona, California | 35 FR 8491 8498; 6/2/1970 | Carlsbad Fish and Wildlife Office.
Towhee, Inyo California | Pipilo crissalis eremophilus | Threatened | California | 52 FR 28780 28786; 8/3/1987 | Carlsbad Fish and Wildlife Office.
Plants
Bedstraw, El Dorado | Galium californicum ssp. sierrae | Endangered | California | 61 FR 54346 54358; 10/18/1996 | Sacramento Fish and Wildlife Office.
Bedstraw, island | Galium buxifolium | Endangered | California | 62 FR 40954 40974; 7/31/1997 | Ventura Fish and Wildlife Office.
Bird's-beak, Pennell's | Cordylanthus tenuis ssp. capillaris | Endangered | California | 60 FR 6671 6685; 2/3/1995 | Sacramento Fish and Wildlife Office.
Bluegrass, San Bernardino | Poa atropurpurea | Endangered | California | 63 FR 49006 49022; 9/14/1998 | Carlsbad Fish and Wildlife Office.
Butterweed, Layne's | Senecio layneae | Threatened | California | 61 FR 54346 54358; 10/18/1996 | Sacramento Fish and Wildlife Office.
Ceanothus, Pine Hill | Ceanothus roderickii | Endangered | California | 61 FR 54346 54358; 10/18/1996 | Sacramento Fish and Wildlife Office.
Checker-mallow, Kenwood Marsh | Sidalcea oregana ssp. valida | Endangered | California | 62 FR 54791 54808; 10/22/1997 | Sacramento Fish and Wildlife Office.
Clarkia, Vine Hill | Clarkia imbricata | Endangered | California | 62 FR 54791 54808; 10/22/1997 | Sacramento Fish and Wildlife Office.
Crownbeard, big-leaved | Verbesina dissita | Threatened | California, Mexico | 61 FR 52370 52384; 10/7/1996 | Carlsbad Fish and Wildlife Office.
Evening-primrose, San Benito | Camissonia benitensis | Threatened | California | 50 FR 5755 5759; 2/12/1985 | Ventura Fish and Wildlife Office.
Flannelbush, Pine Hill | Fremontodendron californicum ssp. decumbens | Endangered | California | 61 FR 54346 54358; 10/18/1996 | Sacramento Fish and Wildlife Office.
Goldfields, Burke's | Lasthenia burkei | Endangered | California | 56 FR 61173 61182; 12/2/1991 | Sacramento Fish and Wildlife Office.
Larkspur, Baker's | Delphinium bakeri | Endangered | California | 65 FR 4156 4162; 1/26/2000 | Sacramento Fish and Wildlife Office.
Larkspur, yellow | Delphinium luteum | Endangered | California | 65 FR 4156 4162; 1/26/2000 | Sacramento Fish and Wildlife Office.
Lily, Pitkin Marsh | Lilium pardalinum ssp. pitkinense | Endangered | California | 62 FR 54791 54808; 10/22/1997 | Sacramento Fish and Wildlife Office.
Lily, Western | Lilium occidentale | Endangered | California, Oregon | 59 FR 42171 42176; 8/17/1994 | Arcata Fish and Wildlife Office.
Lupine, Nipomo Mesa | Lupinus nipomensis | Endangered | California | 65 FR 14888 14898; 3/20/2000 | Ventura Fish and Wildlife Office.
Meadowfoam, Sebastopol | Limnanthes vinculans | Endangered | California | 56 FR 61173 61182; 12/2/1991 | Sacramento Fish and Wildlife Office.
Milk-vetch, Applegate's | Astragalus applegatei | Endangered | California, Oregon | 58 FR 40547 40551; 7/28/1993 | Klamath Falls Fish and Wildlife Office.
Milk-vetch, Clara Hunt's | Astragalus clarianus | Endangered | California | 62 FR 54791 54808; 10/22/1997 | Sacramento Fish and Wildlife Office.
Milk-vetch, Peirson's. | Astragalus magdalenae var. peirsonii | Threatened | California | 63 FR 53596 53615; 10/6/1998 | Carlsbad Fish and Wildlife Office.
Morning-glory, Stebbins' | Calystegia stebbinsii | Endangered | California | 61 FR 54346 54358; 10/18/1996 | Sacramento Fish and Wildlife Office.
Mountainbalm, Indian Knob | Eriodictyon altissimum | Endangered | California | 59 FR 64613 64623; 12/15/1994 | Ventura Fish and Wildlife Office.
Penny-cress, Kneeland Prairie | Thlaspi californicum | Endangered | California | 65 FR 6332 6338; 2/9/2000 | Arcata Fish and Wildlife Office.
Phlox, Yreka | Phlox hirsuta | Endangered | California | 65 FR 5268 5275; 2/3/2000 | Yreka Fish and Wildlife Office.
Rush-rose, island | Helianthemum greenei | Threatened | California | 62 FR 40954 40974; 7/31/1997 | Ventura Fish and Wildlife Office.
Sedge, white | Carex albida | Endangered | California | 62 FR 54791 54808; 10/22/1997 | Sacramento Fish and Wildlife Office.
Spineflower, Howell's | Chorizanthe howellii | Endangered | California | 57 FR 27848 27859; 6/22/1992 | Arcata Fish and Wildlife Office.
Spineflower, Scotts Valley | Chorizanthe robusta var. hartwegii | Endangered | California | 59 FR 5499 5510; 2/4/1994 | Ventura Fish and Wildlife Office.
Sunshine, Sonoma | Blennosperma bakeri | Endangered | California | 56 FR 61173 61182; 12/2/1991 | Sacramento Fish and Wildlife Office.
Thistle, La Graciosa | Cirsium loncholepis | Endangered | California | 65 FR 14888 14898; 3/20/2000 | Ventura Fish and Wildlife Office.

What is a Distinct Population Segment?

Yellow-billed cuckoo, mountain yellow-legged frog, and western snowy plover were each listed as a Distinct Population Segment (DPS) of a vertebrate taxon. A DPS is defined in the February 7, 1996, Policy Regarding the Recognition of Distinct Vertebrate Population Segments (61 FR 4722). For a population to be listed under the Act as a distinct vertebrate population segment, three elements are considered: (1) The discreteness of the population segment in relation to the remainder of the species to which it belongs; (2) the significance of the population segment to the species to which it belongs; and (3) the population segment's conservation status in relation to the Act's standards for listing (i.e., is the population segment endangered or threatened?). Distinct population segments of vertebrate species, as well as subspecies of all listed species, may be proposed for separate reclassification or for removal from the list. We will apply the DPS policy during the 5-year review.

Request for New Information

To ensure that a 5-year review is complete and based on the best available scientific and commercial information, we request new information from all sources. See What Information Do We Consider in Our Review? for specific criteria. If you submit information, please support it with documentation such as maps, bibliographic references, methods used to gather and analyze the data, and/or copies of any pertinent publications, reports, or letters by knowledgeable sources.

To get more information on a species, submit information on a species; or review information we receive, please use the following contact information, depending on the Lead Fish and Wildlife Office for the species specified in the table above.

Arcata Fish and Wildlife Office: Kathleen Brubaker, 707-822-7201 (phone); Kathleen_brubaker@fws.gov (email); or 1655 Heindon Road, Arcata, CA 952121 (U.S. mail, hand-delivery, or in-person review of documents);

Carlsbad Fish and Wildlife Office: Bradd Baskerville-Bridges, 760-431-9440 (phone); fw8cfwocomments@fws.gov (email); or 2177 Salk Avenue, Suite 250, Carlsbad, CA 92008 (U.S. mail, hand-delivery, or in-person review of documents);

Klamath Falls Fish and Wildlife Office: Daniel Blake, 541-885-2512 (phone); daniel_blake@fws.gov (email); or 1936 California Ave., Klamath Falls, OR 97601 (U.S. mail, hand-delivery, or in-person review of documents);

Reno Fish and Wildlife Office: Erin Nordin, 760-872-5020 (phone); erin_nordin@fws.gov (email); or 351 Pacu Lane, Bishop, California 93514 (U.S. mail, hand-delivery, or in-person review of documents);

Sacramento Fish and Wildlife Office: Josh Hull, 916-414-6742 (phone); josh_hull@fws.gov (email); or 2800 Cottage Way, Suite W2605, Sacramento, California 95825 (U.S. mail, hand-delivery, or in-person review of documents);

San Francisco Bay-Delta Fish and Wildlife Office: Steven Detwiler, 916-930-2640 (phone); steven_detwiler@fws.gov (email); or 650 Capitol Mall, Sacramento, CA 95814 (U.S. mail, hand-delivery, or in-person review of documents);

Southern Nevada Fish and Wildlife Office: James Harter, 702-515-5230 (phone); james_harter@fws.gov (email; or 4701 N. Torrey Pines Dr., Las Vegas, NV 89130 (U.S. mail, hand-delivery, or in-person review of documents);

Ventura Fish and Wildlife Office: Cat Darst, 805-677-3318 (phone); cat_darst@fws.gov (email); or 2493 Portola Road, Suite B, Ventura CA 93003 (U.S. mail, hand-delivery, or in-person review of documents);

Yreka Fish and Wildlife Office: Nadine Kanim, 530-841-3108 (phone); nadine_kanim@fws.gov (email); or 1829 S Oregon Street, Yreka, California 96097 (U.S. mail, hand-delivery, or in-person review of documents).

Public Availability of Comments

Before including your address, phone number, email address, or other personal identifying information in your comment, you should be aware that your entire comment—including your personal identifying information—may be made publicly available at any time. While you can ask us in your comment to withhold your personal identifying information from public review, we cannot guarantee that we will be able to do so.

Comments and materials received will be available for public inspection, by appointment, during normal business hours at the offices to which the comments are submitted.

Authority

This document is published under the authority of the Endangered Species Act of 1973, as amended (16 U.S.C. 1531 et seq.).

Jody Holzworth,
Acting Regional Director, Pacific Southwest Region, U.S. Fish and Wildlife Service.

[FR Doc. 2018-12974 Filed 6-15-18; 8:45 am]

BILLING CODE 4333-15-P